SMALL BUSINESS ADMINISTRATION

[Declaration of Disaster #3506]

State of Mississippi

As a result of the President's major disaster declaration on May 23, 2003, I find that Calhoun, Clay, Chickasaw, Itawamba, Lee, Lowndes, Monroe, Pontotoc and Webster Counties in the State of Mississippi constitute a disaster area due to damages caused by severe storms, tornadoes and high winds occurring on May 5 through May 8, 2003. Applications for loans for physical damage as a result of this disaster may be filed until the close of business on July 22, 2003 and for economic injury until the close of business on February 23, 2004 at the address listed below or other locally announced locations:

U.S. Small Business Administration, Disaster Area 2 Office, One Baltimore Place, Suite 300, Atlanta, GA 30308.

In addition, applications for economic injury loans from small businesses located in the following contiguous counties may be filed until the specified date at the above location: Choctaw, Grenada, Lafayette, Montgomery, Noxubee, Oktibbeha, Prentiss, Tishomingo, Union and Yalobusha in the State of Mississippi; and Franklin, Lamar, Marion and Pickens counties in the State of Alabama.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The number assigned to this disaster for physical damage is 350612. For economic injury the number is 9V5000 for Mississippi; and 9V5100 for Alabama.

(Catalog of Federal Domestic Assistance Program Nos. 59002 and 59008).
Dated: May 27, 2003.
Herbert L. Mitchell,
Associate Administrator for Disaster Assistance.

[FR Doc. 03-13766 Filed 6-2-03; 8:45 am]

BILLING CODE 8025-01-P